DEPARTMENT OF ENERGY

Western Area Power Administration

2015 Resource Pool—Sierra Nevada Customer Service Region

AGENCY: Western Area Power Administration, DOE.

ACTION: Notice of Proposed Power Allocations.

SUMMARY: The Western Area Power Administration (Western), a Federal power marketing administration of the Department of Energy (DOE), published its 2004 Power Marketing Plan (Marketing Plan) for the Sierra Nevada Customer Service Region (SNR) in the Federal Register on June 25, 1999. The Marketing Plan specifies the terms and conditions under which Western will market power from the Central Valley Project (CVP) and the Washoe Project beginning January 1, 2005, and continuing through December 31, 2024. The Marketing Plan provided for a portion of SNR's resources to be reallocated through a 2015 Resource Pool. On June 3, 2009, Western published a Call for 2015 Resource Pool Applications. On September 28, 2009, Western published a Notice of Extension to file applications. This notice announces Western's proposed allocations of power from the 2015 Resource Pool.

DATES: Entities interested in commenting on Western's proposed allocations must submit written comments to Western's SNR Office at the address below. Western must receive written comments by the close of the comment period. The comment period closes at 4 p.m., Pacific Daylight Time, on August 30, 2010. Entities are encouraged to submit comments through electronic mail or to use certified mail. Comments will also be accepted via regular mail through the United States Postal Service if postmarked at least 3 days before August 30, 2010, and received no later than September 1, 2010. Western reserves the right not to consider comments that are not timely received. After considering the comments, Western will publish a Notice of Final 2015 Resource Pool Allocations in the Federal Register.

ADDRESSES: Written comments should be sent to Ms. Sonja Anderson, Power Marketing Manager, Sierra Nevada Customer Service Region, Western Area Power Administration, 114 Parkshore Drive, Folsom, CA 95630, or by electronic mail to 2015RPApps@wapa.gov.

FOR FURTHER INFORMATION CONTACT: Ms. Sonja Anderson, Power Marketing Manager, Sierra Nevada Customer Service Region, Western Area Power Administration, 114 Parkshore Drive, Folsom, CA 95630, (916) 353-4421, or by electronic mail at sanderso@wapa.gov.

SUPPLEMENTARY INFORMATION:

Background

Pursuant to the Marketing Plan (64 FR 34417, June 25, 1999), Western published the Call for 2015 Resource Pool Applications in the Federal Register (74 FR 26671, June 3, 2009). Western subsequently published a Notice of Extension in the Federal Register (74 FR 49366, September 28, 2009). The Call for 2015 Resource Pool Applications required that applications for Federal power from the CVP and Washoe Projects be submitted by August 3, 2009, and the Notice of Extension extended the submission date to October 28, 2009.

CVP power facilities are operated by the U.S. Department of the Interior, Bureau of Reclamation (Reclamation), and include 11 powerplants with a maximum operating capability of about 2,044 megawatts (MW), and an estimated average annual generation of 3.3 million megawatthours (MWh). Western markets and transmits power available from the CVP.

The Washoe Project's Stampede Powerplant also is operated by Reclamation and has a maximum operating capability of 3.65 MW with an estimated annual generation of 10,000 MWh. The Sierra Pacific Power Company owns and operates the only transmission system available for access to the Stampede Powerplant.

Western owns the 94 circuit-mile Malin-Round Mountain 500-kilovolt (kV) transmission line and the 84 circuit-mile Los Banos-Gates No. 3 500-kV transmission line (both integral parts of the Pacific Northwest-Pacific Southwest Intertie), 803 circuit miles of 230-kV transmission line, 7 circuit miles of 115-kV transmission line, and approximately 63 circuit miles of 69-kV and below transmission line. Western also has part ownership in the 342-mile California-Oregon Transmission Project. Many of Western's existing customers have no direct access to Western's transmission lines and receive service over transmission lines owned by other utilities.

The Marketing Plan describes how SNR will market its power resources beginning January 1, 2005, through December 31, 2024. Western proposes to allocate portions of the 2015 Resource Pool to applicants meeting the eligibility criteria listed in the Marketing Plan. Once the 2015 Resource Pool allocations have been finalized, Western will offer contracts to allottees for a percentage of the Base Resource. If requested, Western will work with the allottees to develop a customized product to meet their needs, as more fully described in the Marketing Plan.

Proposed 2015 Resource Pool Allocations

Pursuant to the Marketing Plan, a two-step process was undertaken by Western to determine proposed power allocations. First, Western determined which applicants met the eligibility criteria. Next, Western used the allocation criteria to determine allocation amounts. Western then determined which eligible entities received a proposed allocation and the amount of the proposed allocation. Western received 44 applications from existing customers and 13 applications from entities who are not currently customers.

The proposed 2015 Resource Pool allocations are preliminary and may be changed based on comments received. This notice formally requests comments related to the proposed allocations. After considering timely comments, Western will publish a Notice of Final 2015 Resource Pool Allocations in the Federal Register. Western will respond to comments received on the proposed allocations in that notice.

The proposed 2015 Resource Pool allottees, the allocations expressed as percentages of the Base Resource, and the estimated MWh amounts of each allocation are listed below. The estimated MWh for each allocation assumes an estimated average annual Base Resource of 3,342,000 MWh and are rounded to the nearest MWh. The proposed allocations are as follows:

Applicant | Base resource allocation (percent) | Estimated (MWh)
Alameda Municipal Power | 0.06140 | 2,052
Bay Area Rapid Transit District | 0.06140 | 2,052
California State University, Sacramento | 0.06140 | 2,052
Cawelo Water District | 0.06140 | 2,052
Dry Creek Rancheria Band of Pomo Indians | 0.07795 | 2,605
East Bay Municipal Utility District | 0.06140 | 2,052
Fallon, City of | 0.06140 | 2,052
Healdsburg, City of | 0.06140 | 2,052
Hoopa Valley Tribe | 0.12274 | 4,102
Kings River Conservation District | 0.00491 | 164
Klamath Water and Power Agency | 0.04668 | 1,560
Lassen Municipal Utility District | 0.06140 | 2,052
Lodi, City of | 0.06140 | 2,052
Lompoc, City of | 0.06140 | 2,052
Marin Energy Authority | 0.62094 | 20,752
Merced Irrigation District | 0.06140 | 2,052
Navy, U.S. Dept of, Monterey Post Graduate School | 0.04873 | 1,628
Picayune Rancheria of the Chukchansi Indians | 0.00674 | 225
Presido Trust | 0.03503 | 1,170
Santa Clara Valley Water District | 0.06140 | 2,052
Sonoma County Water Agency | 0.06140 | 2,052
South San Joaquin Irrigation District | 0.01400 | 468
Stockton, Port of | 0.02421 | 809
Truckee Donner Public Utility District | 0.06140 | 2,052
Turlock Irrigation District | 0.06140 | 2,052
University of California, San Francisco | 0.06140 | 2,052
Zone 7, Alameda County Flood Control & Water Conservation District | 0.01573 | 525
| 2.00000 | 66,840

Contracting Process

Once the final 2015 Resource Pool allocations have been determined and published, Western will work with the allottees to develop a customized product to meet their needs as requested by such allottees and as more fully described in the Marketing Plan. It is each allottee's responsibility to obtain transmission arrangements for the delivery of power to its load. Upon request, Western may assist an allottee in obtaining transmission arrangements for the delivery of power. If an allottee fails to secure delivery arrangements acceptable to Western, Western will withdraw the allocation. Western will offer a prototype contract for power allocated under the final 2015 Resource Pool allocations. Allottees will be required to execute a contract within 6 months of the contract offer. Electric service contracts will be effective upon Western's signature, and service will begin on January 1, 2015.

Authorities

The Marketing Plan, published in the Federal Register (64 FR 34417) on June 25, 1999, was established pursuant to the Department of Energy Organization Act (42 U.S.C. 7101-7352); the Reclamation Act of June 17, 1902 (ch. 1093, 32 Stat. 388) as amended and supplemented by subsequent enactments, particularly section 9(c) of the Reclamation Project Act of 1939 (43 U.S.C. 485(c)); and other acts specifically applicable to the projects involved. This action falls within the Marketing Plan and, thus, is covered by the same authority.

Regulatory Procedure Requirements

Environmental Compliance

In compliance with the National Environmental Policy Act (NEPA) (42 U.S.C. 4321-4347), Council on Environmental Quality NEPA implementing regulations (40 CFR parts 1500-1508), and DOE NEPA implementing regulations (10 CFR part 1021), Western completed an Environmental Impact Statement (EIS) on its Energy Planning and Management Program. The Record of Decision was published in the Federal Register (60 FR 53181, October 12, 1995). Western also completed the 2004 Power Marketing Program EIS (2004 EIS), and the Record of Decision was published in the Federal Register (62 FR 22934, April 28, 1997). The Marketing Plan falls within the range of alternatives considered in the 2004 EIS. This NEPA review identified and analyzed environmental effects related to the Marketing Plan. This action falls within the Marketing Plan and, thus, is covered by the 2004 EIS.

Dated: July 22, 2010.
Timothy J. Meeks,
Administrator.

[FR Doc. 2010-18742 Filed 7-29-10; 8:45 am]

BILLING CODE 6450-01-P